DEPARTMENT OF LABOR

Office of the Secretary

Submission for OMB Review: Comment Request

November 9, 2005.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Office of the Secretary, Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Office of the Secretary.

Type of Review: Extension of currently approved collection.

Title:Information Collection Plan for GovBenefits Online.

OMB Number: 1290-0003.

Frequency: On occasion.

Type of Response: Reporting .

Affected Public: Individuals or households; Business or other for-profit; Not-for-profit institutions; Farms; Federal Government; and State, Local, or Tribal Government.

Number of Respondents: 6,367,428.

Number of Annual Responses: 6,367,428.

Estimated Time Per Response: 2 minutes.

Total Burden Hours: 191,023.

Total Annualized capital/startup costs: $0.

Total Annual Costs (operating/maintaining systems or purchasing services): $0.

Description: The President's Management Agenda for E-Government (February 27, 2002) sets forth a strategy for simplifying the delivery of services to citizens. The President's agenda outlines a Federal EGovernment Enterprise Architecture that will transition the management and delivery of government services from a bureaucracy-centered to a citizen-centered paradigm. To this end, the Department of Labor serves as the managing partner of the Administration's “GovBenefits” strategy for assisting citizens in identifying and locating information on benefits sponsored by the Federal government and State governments. This tool greatly reduces the burden on citizens attempting to locate services available from many different government agencies by providing one-stop access to information on obtaining those services.

Respondents answer a series of questions to the extent necessary for locating relevant information on Federal benefits. Responses are used by the respondent to expedite the identification and retrieval of sought after information and resources pertaining to the benefits sponsored by the Federal Government.

Ira L. Mills,
Departmental Clearance Officer.

[FR Doc. E5-6361 Filed 11-16-05; 8:45 am]

BILLING CODE 4510-P